DEPARTMENT OF HOMELAND SECURITY

Coast Guard

33 CFR Part 117

[Docket No. USCG-2013-0599]

Drawbridge Operation Regulations; The Gut, South Bristol, ME

AGENCY: Coast Guard, DHS.

ACTION: Notice of temporary deviation from regulations.

SUMMARY: The Commander, First Coast Guard District, has issued a temporary deviation from the regulation governing the operation of the SR129 Bridge across The Gut, mile 0.2, between Rutherford Island and South Bristol, Maine. The bridge owner, Maine Department of Transportation will be performing test borings at the bridge. This deviation allows the bridge to delay bridge openings by ten minutes for a four hour period to facilitate scheduled test borings at the bridge.

DATES: This deviation is effective from 10 a.m. through 2 p.m. on July 15, 2013.

ADDRESSES: Documents mentioned in this preamble as being available in the docket are part of docket USCG-2013-0599 and are available online at www.regulations.gov, inserting USCG-2013-0599 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Mr. John McDonald, Project Officer, First Coast Guard District, telephone (617) 223-8364, john.w.mcdonald@uscg.mil. If you have questions on viewing the docket, call Barbara Hairston, Program Manager, Docket Operations, telephone 202-366-9826.

SUPPLEMENTARY INFORMATION: The SR129 Bridge, across The Gut, mile 0.2, between Rutherford Island and South Bristol, Maine, has a vertical clearance in the closed position of 3 feet above mean high water and 12 feet above mean low water. The bridge operating regulations are listed at 33 CFR 117.5.

The waterway is transited by recreational and commercial fishing boats. There is an alternate route for navigation around Rutherford Island and the bridge can be opened as soon as possible for an emergency situation.

The bridge owner, Maine Department of Transportation, requested a temporary deviation from the normal operating schedule to facilitate test boring operations.

Under this temporary deviation the SR129 Bridge may delay bridge openings by up to ten minutes between 10 a.m. and 2 p.m. on July 15, 2013 to facilitate moving a test boring rig out of the channel.

In accordance with 33 CFR 117.35(e), the bridge must return to its regular operating schedule immediately at the end of the designated time period. This deviation from the operating regulations is authorized under 33 CFR 117.35.

Dated: July 1, 2013.
Gary Kassof,
Bridge Program Manager, First Coast Guard District.

[FR Doc. 2013-16808 Filed 7-12-13; 8:45 am]

BILLING CODE 9110-04-P